DEPARTMENT OF TRANSPORTATION

Federal Aviation Administration

14 CFR Part 95

[Docket No. 30976; Amdt. No. 515]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, September 18, 2014.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on 14 August 2014.
John Duncan,
Director, Flight Standards Service.

Adoption of the Amendment

Accordingly, pursuant to the authority delegated to me by the Administrator, part 95 of the Federal Aviation Regulations (14 CFR part 95) is amended as follows effective at 0901 UTC, June 03, 2010.

1. The authority citation for part 95 continues to read as follows:

Authority: 49 U.S.C. 106(g), 40103, 40106, 40113, 40114, 40120, 44502, 44514, 44719, 44721.

2. Part 95 is amended to read as follows:

Revisions to IFR Altitudes and Changeover Point
[Amendment 515 Effective Date September 18, 2014]
From | To | MEA
§ 95.6001 Victor Routes—U.S
§ 95.6003 VOR Federal Airway V3 Is Amended To Read in Part
Fort Lauderdale, FL VOR/DME | Palm Beach, FL VORTAC | 2000
§ 95.6005 VOR Federal Airway V5 Is Amended To Read in Part
Athens, GA VORTAC | Irmos, GA FIX | 3100
§ 95.6034 VOR Federal Airway V34 Is Amended To Read in Part
Hancock, NY VOR/DME | Rimba, NY FIX | 6400
§ 95.6051 VOR Federal Airway V51 Is Amended To Read in Part
Athens, GA VORTAC | Irmos, GA FIX | 3100
§ 95.6068 VOR Federal Airway V68 Is Amended To Read in Part
Crays, TX FIX | Industry, TX VORTAC | 2600
§ 95.6123 VOR Federal Airway V123 Is Amended To Read in Part
Mitch, MD FIX | Swann, MD FIX | *7000
*3000—GNSS MEA
§ 95.6144 VOR Federal Airway V144 Is Amended To Read in Part
Kessel, WV VOR/DME | Linden, VA VORTAC | 5500
§ 95.6154 VOR Federal Airway V154 Is Amended To Read in Part
Macon, GA VORTAC | Dublin, GA VORTAC | #2300
#Macon R-099 Unusable use Dublin R-286
§ 95.6198 VOR Federal Airway V198 Is Amended To Read in Part
San Antonio, TX VORTAC | Seeds, TX FIX | 2900
Seeds, TX FIX | Wemar, TX FIX | *2500
*2000—MOCA
§ 95.6199 VOR Federal Airway V199 Is Amended To Read in Part
Mendocino, CA VORTAC | *Henle, CA FIX | 9000
*5800—MCA Henle, CA FIX, S BND
§ 95.6210 VOR Federal Airway V210 Is Amended To Read in Part
Aples, CA FIX | Hector, CA VORTAC | 7900
§ 95.6212 VOR Federal Airway V212 Is Amended To Read in Part
Seeds, TX FIX | Wemar, TX FIX | *2500
*2000—MOCA
§ 95.6222 VOR Federal Airway V222 Is Amended To Read in Part
Stonewall, TX VORTAC | Marcs, TX FIX | 4500
Crays, TX FIX | Industry, TX VORTAC | 2600
§ 95.6248 VOR Federal Airway V248 Is Amended To Read in Part
Salinas, CA VORTAC | *Sardo, CA FIX | **6000
*5500—MRA
*6000—MCA Sardo, CA FIX, NW BND
**5500—MOCA
§ 95.6259 VOR Federal Airway V259 Is Amended To Read in Part
Barretts Mountain, NC VOR/DME | Gowbe, NC FIX
| SE BND | 5000
| NW BND | 7500
Gowbe, NC FIX | *Holston Mountain, TN VORTAC | 7500
*6600—MCA Holston Mountain, TN VORTAC, SE BND
§ 95.6266 VOR Federal Airway V266 Is Amended To Read in Part
Greensboro, NC VORTAC | South Boston, VA VORTAC | 2700
§ 95.6267 VOR Federal Airway V267 Is Amended To Read in Part
Athens, GA VORTAC | Irmos, GA FIX | 3100
§ 95.6286 VOR Federal Airway V286 Is Amended To Read in Part
Elkins, WV VORTAC | Derin, WV FIX
| W BND | 5700
| E BND | 6200
Derin, WV FIX | Teakk, VA FIX | 6900
Teakk, VA FIX | Casanova, VA VORTAC
| W BND | *6900
| E BND | *6500
*5800—MOCA
§ 95.6292 VOR Federal Airway V292 Is Amended To Read in Part
Hancock, NY VOR/DME | Sages, NY FIX | 6400
Sages, NY FIX | Wigan, NY FIX | #000
#Unusable
Wigan, NY FIX | Barnes, MA VORTAC | #*10000
*4900—MOCA
#Barnes R-279 Unusable BYD 50 NM
§ 95.6310 VOR Federal Airway V310 Is Amended To Read in Part
Rosar, KY FIX | *Holston Mountain, TN VORTAC | 6400
*6600—MCA Holston Mountain, TN VORTAC, E BND
Holston Mountain, TN VORTAC | *Stain, TN FIX | 6700
*7000—MCA Stain, TN FIX, E BND
Stain, TN FIX | *Mulbe, NC FIX | 7800
*7100—MCA Mulbe, NC FIX, W BND
§ 95.6394 VOR Federal Airway V394 Is Amended To Read in Part
Aples, CA FIX | Basal, CA FIX | 7900
Basal, CA FIX | Daggett, CA VORTAC | 7500
§ 95.6402 VOR Federal Airway V402 Is Amended To Read in Part
Panhandle, TX VORTAC | *Brisc, TX FIX | **7000
*7000—MRA
**5000—MOCA
§ 95.6417 VOR Federal Airway V417 Is Amended To Read in Part
Irmos, GA FIX | Athens, GA VORTAC | 3100
§ 95.6440 VOR Federal Airway V440 Is Amended To Read in Part
Panhandle, TX VORTAC | *Brisc, TX FIX | **7000
*7000—MRA
**5000—MOCA
§ 95.6445 VOR Federal Airway V445 Is Amended To Read in Part
Mitch, MD FIX | Swann, MD FIX | *7000
*3000—GNSS MEA
§ 95.6475 VOR Federal Airway V475 Is Amended To Read in Part
Madison, CT VOR/DME | Norwich, CT VOR/DME | #2600
#Madison R-078 Unusable BYD 16 NM Use Norwich R-259
§ 95.6556 VOR Federal Airway V556 Is Amended To Read in Part
Stonewall, TX VORTAC | Marcs, TX FIX | 4500
Seeds, TX FIX | Wemar, TX FIX | *2500
*2000—MOCA
§ 95.6605 VOR Federal Airway V605 Is Amended To Read in Part
Spartanburg, SC VORTAC | *Genod, NC FIX | **15000
*15000—MRA
**4500—MOCA
**5000—GNSS MEA
*Genod, NC FIX | **Holston Mountain, TN VORTAZ | 8500
*15000—MRA
**6000—MCA Holston Mountain, TN VORTAC, S BND

From | To | MEA | MAA
§ 95.7001 Jet Routes
§ 95.7064 Jet Route J64 Is Amended To Delete
Ravine, PA VORTAC | Robbinsville, NJ VORTAC | 18000 | 45000
Is Amended To Read in Part
Ravine, PA VORTAC | Saraa, PA FIX | 18000 | 45000
§ 95.7077 Jet Route J77 Is Amended To Delete
Boston, MA VOR/DME | Barnes, MA VORTAC | 18000 | 45000
Barnes, MA VORTAC | Sparta, NJ VORTAC | 18000 | 31000
Sparta, NJ VORTAC | Broadway, NJ VOR/DME | 18000 | 45000
Broadway, NJ VOR/DME | Pottstown, PA VORTAC | 18000 | 45000
Pottstown, PA VORTAC | Westminster, MD VORTAC | 18000 | 45000
§ 95.7080 Jet Route J80 Is Amended To Delete
Bellaire, OH VOR/DME | Vinse, PA FIX | 18000 | 45000
Vinse, PA FIX | Kippi, PA FIX | 26000 | 45000
Kippi, PA FIX | East Texas, PA VOR/DME | 18000 | 38000
East Texas, PA VOR/DME | Sparta, NJ VORTAC | 18000 | 32000
Sparta, NJ VORTAC | Barnes, MA VORTAC | 18000 | 31000
Barnes, MA VORTAC | Bangor, ME VORTAC | 18000 | 45000
§ 95.7001 Jet Routes
§ 95.7502 Jet Route J502 Is Amended To Read in Part
U.S. Canadian Border | Annette Island, AK VOR/DME | 22000 | 45000

Airway segment: From | Airway segment: To | Changeover: Distance | Changeover: From
§ 95.8003 VOR Federal Airway Changeover Point
V198 Is Amended To Add Changeover Point
San Antonio, TX VORTAC | Eagle Lake, TX VOR/DME | 63 | San Antonio.
V212 Is Amended To Add Changeover Point
San Antonio, TX VORTAC | Eagle Lake, TX VOR/DME | 63 | San Antonio.
V286 Is Amended To Add Changeover Point
Elkins, WV VORTAC | Casanova, VA VORTAC | 43 | Elkins.
V475 Is Amended To Add Changeover Point
Madison, CT VOR/DME | Norwich, CT VOR/DME | 16 | Madison.
§ 95.8005 Jet Routes Changeover Points
J80 Is Amended To Delete Changeover Point
Bellaire, OH VOR/DME | East Texas, PA VOR/DME | 132 | Bellaire.

[FR Doc. 2014-20707 Filed 8-28-14; 8:45 am]

BILLING CODE 4910-13-P